OFFICE OF PERSONNEL MANAGEMENT

Excepted Service

AGENCY: U.S. Office of Personnel Management (OPM).

ACTION: Notice.

SUMMARY: This notice identifies Schedule A, B, and C appointing authorities applicable to a single agency that were established or revoked from March 1, 2013, to March 31, 2013.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes annually a consolidated listing of all Schedule A, B, and C appointing authorities current as of June 30 as a notice in the Federal Register.

Schedule A

No Schedule A authorities to report during March 2013.

Schedule B

No Schedule B authorities to report during March 2013.

Schedule C

The following Schedule C appointing authorities were approved during March 2013.

Agency name | Organization name | Position title | Authorization No. | Effective date
DEPARTMENT OF COMMERCE | Office of Policy and Strategic Planning | Deputy Director, Office of Policy and Strategic Planning | DC130030 | 3/18/2013
| Office of the Chief of Staff | Protocol Officer and Advance Assistant | DC130034 | 3/22/2013
DEPARTMENT OF DEFENSE | Washington Headquarters Services | Deputy White House Liaison | DD130048 | 3/22/2013
| Office of the Under Secretary of Defense (Acquisition, Technology, and Logistics) | Special Assistant (Manufacturing and Industrial Base Policy) | DD130044 | 3/29/2013
DEPARTMENT OF EDUCATION | Office of the Secretary | Confidential Assistant | DB130017 | 3/5/2013
| Office of Legislation and Congressional Affairs | Special Assistant | DB130021 | 3/5/2013
| Office of the Deputy Secretary | Special Assistant | DB130023 | 3/14/2013
| Office of the Secretary | Director, Scheduling and Advance | DB130012 | 3/27/2013
DEPARTMENT OF ENERGY | Office of Public Affairs | Press Secretary | DE130021 | 3/7/2013
| Office of Public Affairs | Deputy Press Secretary for Clean Energy | DE130022 | 3/21/2013
DEPARTMENT OF HEALTH AND HUMAN SERVICES | Office of the General Counsel | Special Assistant | DH130026 | 3/5/2013
| Office of the Assistant Secretary for Preparedness and Response | Confidential Assistant | DH130049 | 3/18/2013
DEPARTMENT OF THE INTERIOR | Office of Congressional and Legislative Affairs | Deputy Director for Congressional and Legislative Affairs | DI130011 | 3/4/2013
| Secretary's Immediate Office | Press Assistant | DI130014 | 3/21/2013
DEPARTMENT OF LABOR | Office of the Secretary | Executive Assistant | DL130012 | 3/13/2013
| Office of Congressional and Intergovernmental Affairs | Senior Legislative Officer | DL130014 | 3/15/2013
| Office of the Secretary | Deputy Director of Scheduling and Advance | DL130013 | 3/22/2013
OFFICE OF NATIONAL DRUG CONTROL POLICY | Office of Public Affairs | Special Assistant for Strategic Communications | QQ130001 | 3/26/2013
SMALL BUSINESS ADMINISTRATION | Office of the Administrator | Policy Advisor | SB130008 | 3/8/2013
| Office of Field Operations | Special Advisor for Field Operations | SB130009 | 3/29/2013
DEPARTMENT OF STATE | Bureau of Public Affairs | Deputy Assistant Secretary | DS130051 | 3/7/2013
| Bureau of International Organizational Affairs | Senior Advisor | DS130025 | 3/26/2013
| Foreign Policy Planning Staff | Senior Advisor | DS130056 | 3/26/2013
DEPARTMENT OF THE TREASURY | Assistant Secretary for Financial Institutions | Policy Advisor | DY130023 | 3/7/2013
| Assistant Secretary (Public Affairs) | Media Affairs Specialist | DY130025 | 3/21/2013
| Secretary of the Treasury | Special Assistant (2) | DY130027 | 3/21/2013
|  |  | DY130026 | 3/25/2013
DEPARTMENT OF VETERANS AFFAIRS | Office of the Assistant Secretary for Public and Intergovernmental Affairs | Special Assistant | DV130025 | 3/12/2013

The following Schedule C appointing authorities were revoked during March 2013.

Agency | Organization | Position title | Authorization No. | Vacate date
DEPARTMENT OF AGRICULTURE | Office of the General Counsel | Senior Counselor | DA110009 | 3/23/2013
DEPARTMENT OF COMMERCE | Office of the Assistant Secretary for Import Administration | Special Advisor | DC100122 | 3/1/2013
| Office of the Under Secretary | Special Assistant (2) | DC110112 | 3/13/2013
|  |  | DC110121 | 3/15/2013
| Office of Business Liaison | Senior Advisor | DC110028 | 3/29/2013
| Office of the Assistant Secretary for Economic Development | Director, Office of Innovation and Entrepreneurship | DC120012 | 3/29/2013
DEPARTMENT OF EDUCATION | Office of Communications and Outreach | Confidential Assistant | DB110043 | 3/9/2013
| Office of Legislation and Congressional Affairs | Director, Strategic Outreach | DB120020 | 3/9/2013
| Office of the Deputy Secretary | Special Assistant | DB110058 | 3/22/2013
DEPARTMENT OF HOMELAND SECURITY | Office of the Assistant Secretary for Policy | Director | DM120007 | 3/1/2013
| Office of the Executive Secretary for Operations and Administration | Senior Liaison Officer | DM090279 | 3/9/2013
| Office of the Assistant Secretary for Policy | Deputy Executive Director | DM110275 | 3/22/2013
DEPARTMENT OF JUSTICE | Executive Office for United States Attorneys | Counsel | DJ090280 | 3/9/2013
| Office of Legislative Affairs | Attorney Advisor | DJ100171 | 3/9/2013
DEPARTMENT OF LABOR | Office of the Secretary | Staff Assistant | DL120013 | 3/23/2013
DEPARTMENT OF STATE | Office of the Under Secretary for Management | Staff Assistant | DS090146 | 3/8/2013
| Foreign Policy Planning Staff | Staff Assistant | DS090250 | 3/8/2013
| Bureau of Economic and Business Affairs | Special Assistant | DS110053 | 3/21/2013
DEPARTMENT OF THE INTERIOR | Secretary's Immediate Office | Special Assistant | DI090144 | 3/15/2013
DEPARTMENT OF TRANSPORTATION | Secretary | Scheduler | DT110056 | 3/3/2013
| Secretary | Associate Director for Scheduling and Advance | DT110055 | 3/3/2013
DEPARTMENT OF VETERANS AFFAIRS | Office of the Assistant Secretary for Congressional and Legislative Affairs | Special Assistant | DV110084 | 3/23/2013
ENVIRONMENTAL PROTECTION AGENCY | Office of the Associate Administrator for Congressional and Intergovernmental Relations | Deputy Associate Administrator for Intergovernmental Relations | EP090074 | 3/22/2013
OFFICE OF THE SECRETARY OF DEFENSE | Washington Headquarters Services | Defense Fellow (2) | DD130043 DD110048 | 3/30/2013 3/31/2013

Authority: 5 U.S.C. 3301 and 3302; E.O. 10577, 3 CFR, 1954-1958 Comp., p. 218.

U.S. Office of Personnel Management.
Elaine Kaplan,
Acting Director.

[FR Doc. 2013-11446 Filed 5-14-13; 8:45 am]

BILLING CODE 6325-39-P